DEPARTMENT OF HOUSING AND URBAN DEVELOPMENT

[Docket No. FR-7070-N-06; OMB Control No. 2535-0113]

30-Day Notice of Proposed Information Collection: Race and Ethnic Collection

AGENCY: Office of Policy Development and Research, Chief Data Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 27, 2023.

ADDRESSES: Interested persons are invited to submit comments regarding this proposal. Written comments and recommendations for the proposed information collection should be sent within 30 days of publication of this notice to www.reginfo.gov/public/do/StartPrinted Page15501PRAMain. Find this particular information collection by selecting “Currently under 30-day Review—Open for Public Comments” or by using the search function.

FOR FURTHER INFORMATION CONTACT: Anna Guido, Reports Management Officer, REE, Department of Housing and Urban Development, 451 7th Street SW, Washington, DC 20410; email Anna Guido at Anna.P.Guido@hud.gov ; telephone 202-402-5535. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD has submitted to OMB a request for approval of the information collection described in Section A. The Federal Register notice that solicited public comment on the information collection for a period of 60 days was published on September 27, 2022 at 87 FR 58524.

A. Overview of Information Collection

Title of Information Collection: Race and Ethnic Data Collection.

OMB Approval Number: 2535-0113.

Type of Request Revisions of currently approved collection.

Form Number: HUD-27061.

Description of the need for the information and proposed use: The information collected through HUD's standardized Form for the Collection of Race and Ethnic Data is required under 24 CFR—PART 1—Nondiscrimination in Federally Assisted Programs of the Department of Housing and Urban Development—Effectuation of the Title VI of the Civil Rights Act of 1964. HUD's Title VI regulations, specifically 24 CFR 1.6, require recipients of Federal financial assistance to maintain and submit racial and ethnic data so HUD may determine whether such programs comply with Title VI data collection requirements. HUD must offer individuals who are responding to agency data requests for race the option of selecting one or more of five racial categories. HUD must also treat ethnicity as a category separate from race. Title VI requires recipients of HUD funding to maintain records, make them available to responsible Department officials, and if requested, submit compliance reports. For example, HUD grant programs may request information during program monitoring and compliance reviews to ensure compliance with the nondiscrimination requirements of Title VI.

A draft HUD—27061 Race and Ethnic Data Reporting Form is available on HUD's website, https://www.hud.gov/program_offices/administration/hudclips/forms/, while HUD proceeds with seeking approval from OMB for this information collection.

Respondents:

Information collection | Number of respondents | Frequency of response | Responses per annum | Burden hour per response | Annual burden hours | Hourly cost per response | Annual cost
HUD-27061 | 14,375 | 1.2 | 17,250 | 0.50 | $8,625.00 | * $45.43 | $391,833.75
* Median hourly rate for “Project Management Specialists” (occupation code 13-1082), May 2021 National Occupational Employment and Wage Estimates United States, https://www.bls.gov/oes/current/oes_nat.htm#11-0000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Anna Guido,
Department Reports Management Officer, Office of the Chief Information Officer.

[FR Doc. 2023-01699 Filed 1-26-23; 8:45 am]

BILLING CODE 4210-67-P